DEPARTMENT OF TRANSPORTATION

Federal Aviation Administration

Notice of Intent To Release Certain Properties From Federal Obligations

AGENCY: Federal Aviation Administration (FAA), DOT.

ACTION: Request for public comment.

SUMMARY: The FAA hereby provides notice of intent to release certain airport properties 2.71 acres at the Orlando Executive Airport, Orlando, FL from the conditions, reservations, and restrictions as contained in a Quitclaim Deed agreement between the FAA and the City of Orlando, dated September 30, 1955. The release of property will allow the Greater Orlando Aviation Authority to dispose of the property for other than aeronautical purposes. The property is located adjacent to Crystal Lake Drive in Orange County, Florida. The parcel is currently designated as non-aeronautical use. The property will be released of its federal obligations to swap the land for another City-owned parcel. The 1.71 acre parcels to be acquired is also located adjacent to Crystal Lake Drive in Orange County, Florida. This parcel is adjacent to airport property. The fair market value of the airport-obligated parcels has been determined by appraisal to be 1,843,400. The fair market value of the non-obligated parcels has been determined by appraisal to be 2,155,110.

Documents reflecting the Sponsor's request are available, by appointment only, for inspection at the offices of the Greater Orlando Aviation Authority at Orlando International Airport, and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

DATES: Comments are due on or before January 13, 2011.

ADDRESSES: Documents are available for review at the the offices of the Greater Orlando Aviation Authority at Orlando International Airport, and the FAA Airports District Office, 5950 Hazeltine National Drive, Suite 400, Orlando, FL 32822. Written comments on the Sponsor's request must be delivered or mailed to: Rebecca R. Henry, Program Manager, Orlando Airports District Office, 5950 Hazeltine National Drive, Suite 400, Orlando, FL 32822-5024.

FOR FURTHER INFORMATION CONTACT: Rebecca R. Henry, Program Manager, Orlando Airports District Office, 5950 Hazeltine National Drive, Suite 400, Orlando, FL 32822-5024.

Issued in Orlando, Florida on December 2, 2010.
W. Dean Stringer,
Manager, Orlando Airports District Office, Southern Region.

Revision Date 11/22/00

[FR Doc. 2010-31179 Filed 12-13-10; 8:45 am]

BILLING CODE 4910-13-P